DEPARTMENT OF LABOR

Employment and Training Administration

[TA-W-82,203]

Huntingdon County Site, FCI USA, LLC, Americas Division, a Subsidiary of FCI SA, Including On-Site Leased Workers From Manpower Inc. and Geodis Wilson Inc., Mount Union, Pennsylvania; Amended Certification Regarding Eligibility To Apply for Worker Adjustment Assistance

In accordance with Section 223 of the Trade Act of 1974, as amended (“Act”), 19 U.S.C. 2273, the Department of Labor issued a Certification of Eligibility to Apply for Worker Adjustment Assistance on December 18, 2012, applicable to workers of Huntingdon County Site, FCI USA, LLC, Americas Division, a subsidiary of FCI SA, including on-site leased workers from Manpower Inc., Mount Union, Pennsylvania. The Department's notice of determination was published in the Federal Register on January 10, 2013 (Volume 78 FR Pages 2288-2291).

At the request of a worker, the Department reviewed the certification for workers of the subject firm. The workers were engaged in production of electronic connectors.

The company reports that workers leased from Geodis Wilson Inc. were employed on-site at the Mount Union, Pennsylvania location of Huntingdon County Site, FCI USA, LLC. The Department has determined that these workers were sufficiently under the control of the subject firm to be considered leased workers.

Based on these findings, the Department is amending this certification to include workers leased from Geodis Wilson Inc. working on-site at the Mount Union, Pennsylvania location of Huntingdon County Site, FCI USA, LLC.

The amended notice applicable to TA-W-82,203 is hereby issued as follows:

All workers of Huntingdon County Site, FCI USA, LLC, Americas Division, a subsidiary of FCI SA, including on-site leased workers from Manpower Inc. and Geodis Wilson Inc., Mount Union, Pennsylvania, who became totally or partially separated from employment on or after February 23, 2012, through December 18, 2014, and all workers in the group threatened with total or partial separation from employment on the date of certification through two years from the date of certification, are eligible to apply for adjustment assistance under Chapter 2 of Title II of the Trade Act of 1974, as amended.

Signed in Washington, DC, this 18th day of June, 2013.
Michael W. Jaffe,
Certifying Officer, Office of Trade Adjustment Assistance.

[FR Doc. 2013-15743 Filed 7-1-13; 8:45 am]

BILLING CODE 4510-FN-P